DEPARTMENT OF TRANSPORTATION

Federal Aviation Administration

14 CFR Part 39

[Docket No. FAA-2007-0214; Directorate Identifier 2007-NM-224-AD]

RIN 2120-AA64

Airworthiness Directives; McDonnell Douglas Model 717-200 Airplanes

Correction

In proposed rule, document E7-22727 beginning on page 65478 in the issue of Wednesday, November 21, 2007, make the following correction:

§ 39.13 [Corrected]

On page 65480, in § 39.13, in the second column, in the third line, “appropriate” should read “appropriate action”.

[FR Doc. Z7-22727 Filed 12-20-07; 8:45 am]

BILLING CODE 1505-01-D